DEPARTMENT OF COMMERCE

International Trade Administration

[A-549-813]

Final Results of Antidumping Duty Changed Circumstances Review: Canned Pineapple Fruit From Thailand

AGENCY: Import Administration, International Trade Administration, Department of Commerce.

ACTION: Notice of Final Results of Antidumping Duty Changed Circumstances Review.

SUMMARY: The Department of Commerce (the Department) has determined that Tipco Foods (Thailand) Public Co., Ltd. (Tipco Foods) is the successor-in-interest to The Thai Pineapple Public Co., Ltd (TIPCO) and, as such, is entitled to TIPCO's cash deposit rate with respect to entries of subject merchandise.

EFFECTIVE DATE: June 28, 2004.

FOR FURTHER INFORMATION CONTACT: Kristina Boughton or Charles Riggle at (202) 482-8173 or (202) 482-0650, respectively; AD/CVD Enforcement Office 5, Group II, Import Administration, International Trade Administration, U.S. Department of Commerce, 14th Street and Constitution Avenue, NW., Washington, DC 20230.

SUPPLEMENTARY INFORMATION:

Background

On April 26, 2004, Tipco Foods requested that the Department initiate a changed circumstances review to confirm that Tipco Foods is the successor-in-interest to TIPCO for purposes of determining antidumping duty liabilities. This name change is relevant to the ongoing 2002-2003 administrative review of the antidumping duty order on canned pineapple fruit (CPF) from Thailand because the Department has issued a preliminary determination to revoke the order with respect to this company. See Notice of Preliminary Results and Preliminary Determination To Revoke Order in Part: Canned Pineapple Fruit From Thailand, 69 FR 18524 (April 8, 2004).

On June 1, 2004, the Department published the Initiation and Preliminary Results of Antidumping Duty Changed Circumstances Review: Canned Pineapple Fruit from Thailand (69 FR 30878) (Preliminary Results). Interested parties were given an opportunity to comment on the preliminary results, and we received no comments. Therefore, the final results do not differ from the preliminary results of review.

Scope of the Review

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (HTSUS). HTSUS 2008.20.0010 covers CPF packed in a sugar-based syrup; HTSUS 2008.20.0090 covers CPF packed without added sugar (i.e., juice-packed). Although these HTSUS subheadings are provided for convenience and for customs purposes, the written description of the scope is dispositive.

Final Results of Changed Circumstances Review

We find that Tipco Foods is the successor-in-interest to TIPCO and, as such, is entitled to TIPCO's cash deposit rate with respect to entries of subject merchandise. For a complete discussion of the basis of this decision, see the Preliminary Results. Because we received no comments, we have adopted the same position in these final results.

Effective as of the date of these final results, we will instruct U.S. Customs and Border Protection to assign Tipco Foods the zero percent antidumping duty cash deposit rate applicable to TIPCO. The cash deposit determination from this changed circumstances review will apply to all shipments of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the eighth administrative review of CPF from Thailand.

Notification

This notice serves as a final reminder to parties to administrative protective orders (APOs) of their responsibility concerning the disposition of proprietary information disclosed under APO in accordance with 19 CFR 351.305(a)(5). Failure to timely notify the Department in writing of the return/destruction of APO material is a sanctionable violation. We are issuing and publishing this finding and notice in accordance with sections 751(b)(1) and 777(I)(1) of the Tariff Act of 1930, as amended, and 19 CFR 351.216 and 19 CFR 351.221(c)(3).

Dated: June 21, 2004.
James J. Jochum,
Assistant Secretary for Import Administration.

[FR Doc. 04-14621 Filed 6-25-04; 8:45 am]

BILLING CODE 3510-DS-P